DEPARTMENT OF HEALTH AND HUMAN SERVICES

Substance Abuse and Mental Health Services Administration

Notice of Meeting

Pursuant to Public Law 92-463, notice is hereby given of the combined meeting on April 11, 2013, of the Substance Abuse and Mental Health Services Administration's (SAMHSA) four National Advisory Councils (the SAMHSA National Advisory Council (NAC), the Center for Mental Health Services NAC, the Center for Substance Abuse Prevention NAC, the Center for Substance Abuse Treatment NAC), and the two SAMHSA Advisory Committees (Advisory Committee for Women's Services, and the Tribal Technical Advisory Committee).

The Councils were established to advise the Secretary, Department of Health and Human Services (HHS), the Administrator, SAMHSA, and Center Directors, concerning matters relating to the activities carried out by and through the Centers and the policies respecting such activities.

Under Section 501 of the Public Health Service Act, the Advisory Committee for Women's Services (ACWS) is statutorily mandated to advise the SAMHSA Administrator and the Associate Administrator for Women's Services on appropriate activities to be undertaken by SAMHSA and its Centers with respect to women's substance abuse and mental health services.

Pursuant to Presidential Executive Order No. 13175, November 6, 2000, and the Presidential Memorandum of September 23, 2004, SAMHSA established the Tribal Technical Advisory Committee (TTAC) for working with Federally-recognized Tribes to enhance the government-to-government relationship, honor Federal trust responsibilities and obligations to Tribes and American Indian and Alaska Natives. The SAMHSA TTAC serves as an advisory body to SAMHSA.

The April 11 combined meeting will include a report from the SAMHSA Administrator, an update on SAMHSA's Budget, and discussions related to the Newtown initiatives, evidence based practices, disparities and faith based iniatitives. The meeting will also include updates on international activities, disaster response and health reform.

The meeting is open to the public and will be held at the SAMHSA building, 1 Choke Cherry Road, Rockville, MD 20857 in the 1st floor Conference Rooms. Attendance by the public will be limited to space available. Interested persons may present data, information, or views, orally or in writing, on issues pending before the committee. Written submissions should be forwarded to the contact person on or before one week prior to the meeting. Oral presentations from the public will be scheduled at the conclusion of the meeting. Individuals interested in making oral presentations are encouraged to notify the contact on or before one week prior to the meeting. Five minutes will be allotted for each presentation.

The meeting may be accessed via teleconference. To attend on site, obtain the call-in number and access code, submit written or brief oral comments, or request special accommodations for persons with disabilities, please register on-line at http://nac.samhsa.gov/Registration/meetingsRegistration.aspx, or communicate with SAMHSA's Committee Management Officer, Ms. Geretta Wood (see contact information below).

Substantive meeting information and a roster of Committee members may be obtained either by accessing the SAMHSA Committees' Web site at https://nac.samhsa.gov/WomenServices/index.aspx, or by contacting Ms. Wood. The transcript for the meeting will be available on the SAMHSA Committees' Web site within three weeks after the meeting.

Committee Names: Substance Abuse and Mental Health Services Administration National Advisory Council, Center for Mental Health Services National Advisory Council, Center for Substance Abuse Prevention National Advisory Council, Center for Substance Abuse Treatment National Advisory Council, SAMHSA's Advisory Committee for Women's Services, SAMHSA Tribal Technical Advisory Committee.

Date/Time/Type: Thursday, April 11, 2013 from 9 a.m. to 5:30 EDT: Open.

Place: SAMHSA, 1 Choke Cherry Road, SAMHSA 1st floor Conference Rooms, Rockville, Maryland 20857.

Contact: Geretta Wood, Committee Management Officer and Designated Federal Official of the SAMHSA National Advisory Council and SAMHSA's Advisory Committee for Women's Services, 1 Choke Cherry Road, Rockville, Maryland 20857, Telephone: (240) 276-2326, Fax: (240) 276-2252 and Email: geretta.wood@samhsa.hhs.gov.

Cathy J. Friedman,
Public Health Analyst, SAMHSA.

[FR Doc. 2013-05756 Filed 3-12-13; 8:45 am]

BILLING CODE 4162-20-P